NATIONAL CREDIT UNION ADMINISTRATION

Notice of Meetings; Sunshine Act

TIME AND DATE: 10:00 a.m., Thursday, July 26, 2001.

PLACE: Board Room, 7th Floor, Room 7047, 1775 Duke Street, Alexandria, VA 22314-3428.

STATUS: Open.

MATTERS TO BE CONSIDERED: 1. Request from a Federal Credit Union to Convert to a Community Charter.

2. Proposed Rule: Amendment to part 701, NCUA's Rules and Regulations, Definition of Compensation.

3. Final Rule: Amendment to part 749, NCUA's Rules and Regulations, Vital Records Preservation.

4. Final Rule: Amendment to part 709, NCUA's Rules and Regulations, Prepayment Fees.

5. Final Rule: Amendment to part 721, NCUA's Rules and Regulations, Incidental Powers Activities.

6. Final Rule: Amendment to part 712, NCUA's Rules and Regulations, Credit Union Service Organizations.

7. Risk Based Examination Schedule Policy.

8. Proposed Rule: Amendments to parts 702 and 741, NCUA's Rules and Regulations, Financial and Statistical Reports.

9. Reprogramming of NCUA Operating Budget for 2001.

RECESS: 11:15 a.m.

TIME AND DATE: 11:30 a.m., Thursday, July 26, 2001.

PLACE: Board Room, 7th Floor, Room 7047, 1775 Duke Street, Alexandria, VA 22314-3428.

STATUS: Closed.

MATTERS TO BE CONSIDERED: 1. Administrative Action under Part 704 of NCUA's Rules and Regulations. Closed pursuant to exemption (8).

2. One (1) Personnel Matter. Closed pursuant to exemptions (2) and (6).

FOR FURTHER INFORMATION CONTACT: Becky Baker, Secretary of the Board, Telephone 703-518-6304.

Becky Baker,
Secretary of the Board.

[FR Doc. 01-18440 Filed 7-19-01; 4:43 pm]

BILLING CODE 7555-01-M